DEPARTMENT OF AGRICULTURE

Food Safety and Inspection Service

[Docket No. FSIS-2018-0041]

Guideline on Kit Labeling

AGENCY: Food Safety and Inspection Service, USDA.

ACTION: Notice of availability and request for comment.

SUMMARY: The Food Safety and Inspection Service (FSIS) is announcing the availability of the Agency's guideline on kit products that contain a meat or poultry component. The guideline is designed to help establishments and other food handling facilities determine whether a kit product needs to be prepared under FSIS inspection and how a kit product needs to be labeled.

DATES: Submit comments on or before September 9, 2019.

ADDRESSES: FSIS invites interested persons to submit comments on this notice. Comments may be submitted by one of the following methods:

• Federal eRulemaking Portal: This website provides commenters the ability to type short comments directly into the comment field on the web page or to attach a file for lengthier comments. Go to http://www.regulations.gov. Follow the on-line instructions at that site for submitting comments.

• Mail, including CD-ROMs, etc.: Send to Docket Clerk, U.S. Department of Agriculture, Food Safety and Inspection Service, 1400 Independence Avenue SW, Mailstop 3758, Room 6065, Washington, DC 20250-3700.

• Hand- or courier-delivered submittals: Deliver to 1400 Independence Avenue SW, Room 6065, Washington, DC 20250-3700.

Instructions: All items submitted by mail or electronic mail must include the Agency name and docket number FSIS-2018-0041. Comments received in response to this docket will be made available for public inspection and posted without change, including any personal information, to http://www.regulations.gov.

Docket: For access to background documents or comments received, call (202)720-5627 to schedule a time to visit the FSIS Docket Room at 1400 Independence Avenue SW, Room 6065, Washington, DC 20250-3700.

FOR FURTHER INFORMATION CONTACT: Roberta Wagner, Assistant Administrator, Office of Policy and Program Development by telephone at (202) 205-0495.

SUPPLEMENTARY INFORMATION:

Background

FSIS is announcing the availability of a guideline on the labeling and inspection of kit products that contain an inspected and fully labeled meat or poultry component.¹ A kit product consists of individually-packaged food components sold together as a single unit. For example: A “Nugget Lunch Kit” which includes fully-cooked nugget-shaped chicken patties, a container of coleslaw, a slice of corn bread, and a juice box.

¹ The guideline does not apply to boxes of ingredients (including FSIS-inspected, fully labeled meat and poultry products) that may also include recipes that are shipped directly to consumers to help them prepare home-cooked meals. These boxes are typically prepared and packed without FSIS inspection under the retail exemption (see 9 CFR 303.1(d) and 381.10(d)).

There are many varieties of kit products, including but not limited to: Wraps, pizzas, stew, salads, fajitas, stroganoff, or stir-fry skillet meals, that include a meat or poultry component. Some of these items may also require cooking. Often, the meat or poultry component is separately wrapped and fully labeled, and then assembled together with various other food components in the same packaging.

The Agency has determined that the act of assembling a kit product that contains meat or poultry does not need to be done under FSIS inspection, if the following conditions are met:

1. The meat or poultry component is prepared and separately packaged under FSIS inspection and labeled with all required features;

2. The outer kit label identifies all of the individual components in the kit; and

3. The outer kit label clearly identifies the product as a single unit or “kit,” such as “Chicken BBQ Dinner Kit” and “Beef Lasagna Meal.”

Kit products with a meat or poultry component are still under FSIS's jurisdiction. These products must meet all applicable FSIS requirements to ensure that they are not adulterated or misbranded. After FSIS assesses comments on the guideline and gains additional information on establishments producing kit products, instructions will be issued to the Office of Field Operations to clarify what products constitute kits that should no longer be under inspection.

FSIS encourages establishments to follow this guideline. This guideline represents FSIS's current thinking, and FSIS will update it as necessary to reflect comments received and any additional information that becomes available.

Congressional Review Act

Pursuant to the Congressional Review Act at 5 U.S.C. 801 et seq., the Office of Information and Regulatory Affairs has determined that this notice is not a “major rule,” as defined by 5 U.S.C. 804(2).

Additional Public Notification

Public awareness of all segments of rulemaking and policy development is important. Consequently, FSIS will announce this Federal Register publication on-line through the FSIS web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Constituent Update is available on the FSIS web page. Through the web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Done, at Washington, DC.
Paul Kiecker,
Deputy Administrator.

[FR Doc. 2019-14512 Filed 7-8-19; 8:45 am]

BILLING CODE 3410-DM-P